DEPARTMENT OF ENERGY

Federal Energy Regulatory Commission

Combined Notice of Filings #2

Take notice that the Commission received the following electric rate filings:

Docket Numbers: ER15-1837-000.

Applicants: Midcontinent Independent System Operator, Inc., Ameren Illinois Company.

Description: Section 205(d) rate filing per 35.13(a)(2)(iii): 2015-06-02_SA 2782 ATXI-AIC Construction Agreement to be effective 6/2/2015.

Filed Date: 6/2/15.

Accession Number: 20150602-5108.

Comments Due: 5 p.m. ET 6/23/15.

Docket Numbers: ER15-1838-000.

Applicants: New England Power Company, Massachusetts Electric Company.

Description: Section 205(d) rate filing per 35.13(a)(2)(iii): Amended Service Agmt with Paxton Municipal Light Dept. & Notice Waiver Request to be effective 4/1/2015.

Filed Date: 6/2/15.

Accession Number: 20150602-5150.

Comments Due: 5 p.m. ET 6/23/15.

Docket Numbers: ER15-1839-000.

Applicants: Interstate Power and Light Company.

Description: Section 205(d) rate filing per 35.13(a)(2)(iii): IPL Change in Depreciation Rates for Wholeasle Production Service to be effective 7/1/2015.

Filed Date: 6/2/15.

Accession Number: 20150602-5158.

Comments Due: 5 p.m. ET 6/23/15.

Docket Numbers: ER15-1840-000.

Applicants: Pacific Gas and Electric Company.

Description: Section 205(d) rate filing per 35.13(a)(2)(iii): CDWR WPA Regarding Wind Gap Pre-Energization Testing to be effective 6/1/2015 under ER15-1840 Filing Type: 10.

Filed Date: 6/2/15.

Accession Number: 20150602-5159.

Comments Due: 5 p.m. ET 6/23/15.

Docket Numbers: ER15-1841-000.

Applicants: Panda Liberty LLC.

Description: Initial rate filing per 35.12 FERC Electric Tariff, Volume No. 1 (MBR Application) to be effective 7/17/2015 under ER15-1841 Filing Type: 400.

Filed Date: 6/2/15.

Accession Number: 20150602-5161.

Comments Due: 5 p.m. ET 6/23/15.

Take notice that the Commission received the following electric reliability filings:

Docket Numbers: RR15-11-000.

Applicants: North American Electric Reliability Corporation.

Description: Request of the North American Electric Reliability Corporation for Approval of the Amended Compliance and Certification Committee Charter.

Filed Date: 6/2/15.

Accession Number: 20150602-5107.

Comments Due: 5 p.m. ET 6/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2015.
Nathaniel J. Davis, Sr.,
Deputy Secretary.

[FR Doc. 2015-14015 Filed 6-8-15; 8:45 am]

BILLING CODE 6717-01-P